DEPARTMENT OF ENERGY

Federal Energy Regulatory Commission

[Docket No. RD18-4-000]

Commission Information Collection Activities (FERC-725G); Comment Request; Revision

AGENCY: Federal Energy Regulatory Commission, Department of Energy.

ACTION: Notice of revised information collection and request for comments.

SUMMARY: In compliance with the requirements of the Paperwork Reduction Act of 1995, the Federal Energy Regulatory Commission (Commission or FERC) is soliciting public comments on revisions to the information collection, FERC-725G (Reliability Standards for the Bulk Power System: PRC Reliability Standards) in Docket No. RD18-4-000 and will be submitting FERC-725G to the Office of Management and Budget (OMB) for review of the information collection requirements.

DATES: Comments on the collection of information are due July 16, 2018.

ADDRESSES: You may submit comments identified by Docket No. RD18-4-000 by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-725G, Reliability Standards for the Bulk Power System: PRC Reliability Standards.

OMB Control No.: 1902-0252.

Type of Request: Revision of FERC-725G information collection requirements.

Abstract: The information collected by the FERC-725G is required to implement the statutory provisions of section 215 of the Federal Power Act (FPA) (16 U.S.C. 824o). Section 215 of the FPA buttresses the Commission's efforts to strengthen the reliability of the interstate grid.

On March 16, 2018, the North American Electric Reliability Corporation (NERC, the Commission-approved ERO) submitted for Commission approval proposed Reliability Standard PRC-025-2, Generator Relay Loadability. The PRC-025-2 Reliability Standard addresses setting load-responsive protective relays associated with generation facilities at a level to prevent unnecessary tripping of generators during a system disturbance for conditions that do not pose a risk of damage to the associated equipment. Proposed Reliability Standard PRC-025-2 improves upon currently-effective Reliability Standard PRC-025-1 by addressing certain relay setting application issues and by clarifying certain terminology and references. NERC requested that the Commission approve the proposed Reliability Standard and find that the proposed standard is just, reasonable, not unduly discriminatory or preferential, and in the public interest. NERC also requested that the Commission approve: (i) The associated Implementation Plan; (ii) the associated Violation Risk Factors (VRFs) and Violation Severity Levels (VSLs), which remain unchanged from PRC-025-1; and (iii) the retirement of currently-effective Reliability Standard PRC-025-1.

NERC proposed that PRC-025-2 shall become effective on the first day of the first calendar quarter after the effective date of the applicable governmental authority's order approving the standard. NERC's Implementation Plan proposed phased-in compliance dates after the effective date of Reliability Standard PRC-025-2.¹

¹ See NERC's Implementation Plan at https://www.nerc.com/pa/Stand/Project%20201604%20Modifications%20to%20PRC0251%20DL/Project_2016_04_Implementation_Plan_Clean_01092018.pdf.

On May 2, 2018, the Commission approved Reliability Standard PRC-025-2 and the retirement of PRC-025-1.

Type of Respondents: Generator Owner (GO), Transmission Owner (TO), and Distribution Provider (DP).

Estimate of Annual Burden ²: Details follow on the changes in Docket No. RD18-4-000 to FERC-725G.

² Burden is defined as the total time, effort, or financial resources expended by persons to generate, maintain, retain, or disclose or provide information to or for a Federal agency. For further explanation of what is included in the information collection burden, refer to 5 Code of Federal Regulations 1320.3.

³ According to the NERC compliance registry as of March 9, 2018, NERC has registered 415 distribution providers (DP), 985 generator owners (GO) and 336 transmission owners (TO). However, under NERC's compliance registration program, entities may be registered for multiple functions, so these numbers incorporate some double counting. The number of unique entities responding will be approximately 994 entities registered as a transmission owner, a distribution provider, or a generator owner that is also a transmission owner and/or a distribution owner. This estimate assumes all of the unique entities apply load-responsive protective relays.

⁴ The hourly cost (for salary plus benefits) uses the figures from the Bureau of Labor Statistics, May 2017, for two positions involved in the reporting and recordkeeping requirements. These figures include salary (https://www.bls.gov/oes/current/naics2_22.htm) benefits http://www.bls.gov/news.release/ecec.nr0.htm) and are: Engineer: $64.91/hour, and File Clerk: $31.16/hour. Hourly cost for the engineer are used for the one-time costs, and hourly cost for the file clerk are used for the ongoing record retention.

⁵ GO = Generator Owner, DP = Distribution Provider, TO = Transmission Owner, each of which applies load-responsive protective relays at the terminals of the Elements listed in the proposed standard at section 3.2 (Facilities).

⁶ The estimated hourly costs (salary plus benefits) are based on Bureau of Labor Statistics (BLS) information May 2014, (at http://bls.gov/oes/current/naics3_221000.htm#17-0000) for an electrical engineer ($59.62/hour for review and documentation), and for a file clerk ($28.95/hour for record retention). Those figures (and the number of respondents) were used when the standard was approved and added to the OMB inventory. Hourly cost for the engineer are used for the one-time costs, and hourly cost for the file clerk are used for the ongoing record retention.

FERC-725G, Mandatory Reliability Standard PRC-025-2, in Docket No. RD18-4-000
Entity | Number of respondents 3 | Annual number of responses per respondent | Annual number of responses | Average burden hours and cost per response 4 ($) | Total annual burden hours and total annual cost ($) | Cost per respondent ($)
| (1) | (2) | (1) * (2) = (3) | (4) | (3) * (4) = (5) | (5) ÷ (1) = (6)
(One-time) Review & documentation of relay settings to ensure compliance | 994 GO/TO/DP | 1 | 994 | 20 hrs.; $1,298.20 | 19,880 hours; $1,290,410.80 | $1,298.20
(On-going) Record Retention (of compliance records for R1 and M1, for 3 years or until mitigation complete) | 994 GO/TO/DP | 1 | 994 | 2 hrs.; $62.32 | 1,988 hours; $61,946.08 | $62.32

FERC-725G, Mandatory Reliability Standard PRC-025-1, Retirement in Docket No. RD18-4-000
Entity | Number of respondents | Annual number of responses per respondent | Annual number of responses | Average burden hours and cost 5 ($) | Total annual burden hours and total annual cost ($) | Cost per respondent 6 ($)
| (1) | (2) | (1) * (2) = (3) | (4) | (3) * (4) = (5) | (5) ÷ (1) = (6)
(One-time) Review & documentation of relay settings to ensure compliance, (reduction) | 1,019 GO/DP/TO | 1 | 1,019 | 20 hrs.; $1,192.40 (reduction) | 20,380 hours; $1,215,055.60 (reduction) | $1,192.40 (reduction).
(On-going) Record Retention (of compliance records for R1 and M1, for 3 years or until mitigation complete) (reduction) | 1,019 GO/DP/TO | 1 | 1,019 | 2 hrs.; $57.90 (reduction) | 2,038 hours; $59,000.10 (reduction) | $57.90 (reduction).

Net Effect to Burden for FERC-725G: Due to the retirement of PRC-025-1 and implementation of PRC-025-2, the number of respondents is reduced by 25, and the number of annual burden hours is reduced by 550 hours. (The net changes are due to a change in the number of affected entities on the NERC Registry.) The burden per respondent for PRC-025-2 remains 22 hours (total for both one-time and ongoing burden, similar to the now-retired PRC-025-1).

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 9, 2018.
Kimberly D. Bose,
Secretary.

[FR Doc. 2018-10443 Filed 5-15-18; 8:45 am]

BILLING CODE 6717-01-P